DEPARTMENT OF TRANSPORTATION

Coast Guard

33 CFR Part 165

[CGD09-02-008]

RIN 2115-AA97

Security Zones; Captain of the Port Chicago Zone, Lake Michigan

AGENCY: Coast Guard, DOT.

ACTION: Temporary final rule; change in effective period.

SUMMARY: The Coast Guard is revising the effective period for the temporary security zones on the navigable waters of the Kankakee River, the Rock River, and Lake Michigan in the Captain of the Port Chicago zone. These security zones are necessary to protect the nuclear power plants, water intake cribs water filtration plants, and Navy Pier from possible sabotage or other subversive acts, accidents, or possible acts of terrorism. These security zones are intended to restrict vessel traffic from portions of the Kankakee and Rock River and Lake Michigan.

DATES: The amendment to § 165.T09-002 is effective on June 7, 2002. Section 165.T09-002, added at 67 FR 19676, April 23, 2002, effective March 25, 2002 until June 15, 2002, is extended in effect through August 1, 2002.

ADDRESSES: Comments and material received from the public, as well as documents indicated in this preamble as being in available in the docket, are part of docket CGD09-02-008 and are available for inspection or copying at U.S. Coast Guard Marine Safety Office Chicago, 215 W. 83rd Street, Burr Ridge, IL 60521 between 8 a.m. and 4 p.m., Monday through Friday, except Federal holidays.

FOR FURTHER INFORMATION CONTACT: Lieutenant Commander Al Echols, U.S. Coast Guard Marine Safety Office Chicago, at telephone number (630) 986-2175.

SUPPLEMENTARY INFORMATION:

Regulatory Information

On April 23, 2002, we published a temporary final rule entitled Security Zones: Captain of the Port Chicago Zone, Lake Michigan in the Federal Register (67 FR 19676). The temporary final rule established nine temporary security zones in the Captain of the Port Chicago zone for the nuclear power plants, water intake cribs water filtration plants, and Navy Pier from possible sabotage or other subversive acts, accidents, or possible acts of terrorism.

We are extending the effective period of the temporary final rule so that we can complete a rulemaking CGD09-02-001 Security Zones; Captain of the Port Chicago Zone, Lake Michigan, to establish a permanent security zone the nuclear power plants, water intake cribs water filtration plants, and Navy Pier. Extending the effective date until August 1, 2002 should provide us enough time to complete the rulemaking.

We did not publish a notice of proposed rulemaking (NPRM) for this rule and it is being made effective less than 30 days after publication in the Federal Register. When we promulgated the rule published April 23, 2002, we intended to either allow it to expire on June 15, 2002, or to cancel it if we made permanent changes before that date. We published an NPRM on May 22, 2002 to make permanent changes to the temporary final rule (67 FR 35939). That rulemaking will follow normal notice and comment procedures, and a final rule should be published before August 1, 2002.

Continuing the temporary final rule in effect while the permanent rulemaking is in progress will help ensure the safety of critical infrastructure that may be the subject of subversive activity. Nuclear power plants are an important means of electrical energy in the region. In addition, they could be a source of severe radiological contamination throughout the region. Therefore, the Coast Guard finds good cause under 5 U.S.C. 553 (b)(B) and (d)(3) for why a notice of proposed rulemaking and opportunity for comment is not required and why this rule will be made effective fewer than 30 days after publication in the Federal Register.

Background and Purpose

A temporary security zone is necessary to ensure the security for the following nine facilities: (1) Navy Pier and the Jardine Water Filtration Plant; (2) Dresden Nuclear Power Plant Water Intake; (3) Donald C. Cook Nuclear Power Plant; (4) Palisades Nuclear Power Plant; (5) Byron Nuclear Power Plant; (6) Zion Nuclear Power Plant; (7) 68th Street Water Intake Crib; (8) Dever Water Intake Crib; and (9) 79th Street Water Filtration Plant, as a result of the terrorist attacks on the United States on September 11, 2001.

The following nine security zones consist of:

(1) All waters between the Navy Pier and the Jardine Water Filtration Plant shoreward of a line starting at the southeast corner of the Jardine Water Filtration Plant at 41°53′36′′ N, 87°36′17′′ W and ending at the northeast corner of the Navy Pier at 41°53′33′′ N, 87°35′55′′ W, and shoreward of a line starting at the southeast corner of the Navy Pier at 41°53′29′′ N, 87°35′55′′ W thence to the east end of Dime Pier at 41°53′23′′ N, 87°35′58′′ W thence along the south side of Dime Pier to the west end of Dime Pier at 41°53′23′′ N, 87°36′29′′ W thence southeast to the corner of the seawall at 41°53′22′′ N 87°36′28′′ W;

(2) All waters in the vicinity of the Dresden Nuclear Power Plant south of a line starting at the Illinois River shore at approximate position 41°23′45′′ N, 88°16′18′′ W thence east to shore at approximate position 41°23′39′′ N, 88°16′09′′ W;

(3) All waters of Lake Michigan around the Donald C. Cook Nuclear Power Plant water intakes within a line starting at the shoreline at 41°58.656′ N, 86°33.972′ W, thence northwest to 41°58.769′ N, 86°34.525′ W, thence southwest to 41°58.589′ N, 86°34.591′ W, thence southeast to the shoreline at 41°58.476′ N, 86°34.038′ W;

(4) All waters of Lake Michigan around the Palisades Nuclear Power Plant within a line starting at the shoreline in approximate position 42°19′02′′ N, 86°19′05′′ W, thence northwest to 42°20′10′′ N, 86°20′01′′ W, thence northeast to 42°19′43′′ N, 86°19′52′′ W, thence to the shoreline at 42°19′26′′ N, 86°18′55′′ W;

(5) All waters of the Rock River within a 100 yard radius of the Byron Nuclear Power Plant; with its center in approximate position 42°05′01′′ N, 89°19′27′′ W;

(6) All waters 100 yards in all directions of the 68th Street Crib, with its center in approximate position 41°47′10′′ N, 87°31′51′′ W;

(7) All waters 100 yards in all directions of the Dever Crib; with its center in approximate position 41°54′55′′ N, 87°33′20′′ W;

(8) All waters of Lake Michigan around the Zion Nuclear Power Plant within a line starting from the shoreline in approximate position 42°26′36′′ N, 87°48′03′′ W, thence southeast to 42°26′20′′ N, 87°47′35′′ W, thence northeast to 42°26′53′′ N, 87°47′22′′ W, thence to the shoreline at 42°27′06′′ N, 87°48′00′′ W;

(9) All waters of Lake Michigan within an arc of a circle with a 100-yard radius centered on the 79th Street Water Filtration Plant, approximate position 41°45′30′′ N, 87°33′32′′ W.

These coordinates are based upon North American Datum 1983 (NAD 83). Entry into, transit through or anchoring within these security zones is prohibited unless authorized by the Captain of the Port Chicago or his designated on-scene representative. The designated on-scene representative will be the Patrol Commander and may be contacted via VHF/FM Marine Channel 16.

Regulatory Evaluation

This rule is not a “significant regulatory action” under section 3(f) of Executive Order 12866, Regulatory Planning and Review, and does not require an assessment of potential costs and benefits under section 6(a)(3) of that Order. The Office of Management and Budget has not reviewed it under that Order. It is not “significant” under the regulatory policies and procedures of the Department of Transportation (DOT) (44 FR 11040, February 26, 1979).

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities.

Assistance for Small Entities

Under section 213(a) of the Small Business Regulatory Enforcement Fairness Act of 1996 (Pub. L. 104-121), we offered to assist small entities in understanding the rule so that they could better evaluate its effects on them and participate in the rulemaking process. If the rule would affect your small business, organization, or governmental jurisdiction and you have questions concerning its provisions or options for compliance, please contact Marine Safety Office Chicago (see ADDRESSES.)

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

The Coast Guard considered the environmental impact of this regulation and concluded that, under figure 2-1, paragraph (34)(g) of Commandant Instruction M16475.1C, it is categorically excluded from further environmental documentation. A “Categorical Exclusion Determination” is available in the docket for inspection or copying where indicated under ADDRESSES.

List of Subject in 33 CFR Part 165

Harbors, Marine safety, Navigation (water), Reporting and record keeping requirements, Security measures, Waterways.

For the reasons set out in the preamble, the Coast Guard amends 33 CFR part 165 as follows:

PART 165—REGULATED NAVIGATION AREAS AND LIMITED ACCESS AREAS

1. The authority citation for part 165 continues to read as follows:

Authority: 33 U.S.C. 1231; 50 U.S.C. 191, 33 CFR 1.05-1(g), 6.04-1, 6.04-6, 160.5; 49 CFR 1.46.

2. In § 165.T09-002, paragraph (d) is added to read as follows:

§ 165.T09-002 Security Zones; Captain of the Port Chicago Zone, Lake Michigan.

* * * * *

(d) Effective time and date. This section is effective from March 25, 2002, through August 1, 2002.

Dated: May 30 2002.
R.E. Seebald,
Captain, Coast Guard, Captain of the Port, Chicago.

[FR Doc. 02-14269 Filed 6-6-02; 8:45 am]

BILLING CODE 4910-15-P